DEPARTMENT OF VETERANS AFFAIRS

[OMB Control No. 2900-0790]

Agency Information Collection Activity: Application and Reporting Requirements To Receive Grants

AGENCY: Veterans Health Administration, Department of Veterans Affairs

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before June 18, 2018.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0790” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506 of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 111-163 Section 307.

Title: Application and Reporting Requirements to Receive Grants under 38 CFR 17.703; VA Form 10-10055, VA Form 10-10056.

OMB Control Number: 2900-0790.

Type of Review: New collection.

Abstract: Section 307 of Title III of the Caregivers and Veterans Omnibus Health Services Act of 2010 (section 307) requires VA to establish a program to provide grants to eligible entities to assist veterans in highly rural areas through innovative transportation services to travel to VA medical centers, and to otherwise assist in providing transportation services in connection with the provision of VA medical care to these veterans. Paragraph (a) of section 307 mandates that VA will award grants to eligible entities for these purposes, and paragraph (b) of section 307 mandates that VA will establish procedures for evaluating grant applications. This collection of information is necessary to fulfill VA's obligations under section 307.

Affected Public: Individuals and households.

Estimated Annual Burden: 200 hours.

Estimated Average Burden per Respondent: 111 minutes.

Frequency of Response: Annually.

Estimated Number of Respondents: 100.

By direction of the Secretary.
Cynthia D. Harvey-Pryor,
Department Clearance Officer, Office of Quality, Privacy and Risk, Department of Veterans Affairs.

[FR Doc. 2018-07951 Filed 4-16-18; 8:45 am]

BILLING CODE 8320-01-P